DEPARTMENT OF ENERGY

Notice of Preferred Nevada Rail Corridor

AGENCY: Office of Civilian Radioactive Waste Management, U.S. Department of Energy.

ACTION: Notice of the Preferred Nevada Rail Corridor.

SUMMARY: On July 23, 2002, the President signed into law (Pub. L. 107-200) a joint resolution of the U.S. House of Representatives and the U.S. Senate designating the Yucca Mountain site in Nye County, Nevada, for development as a geologic repository for the disposal of spent nuclear fuel and high-level radioactive waste. The Department of Energy (DOE or Department) is now responsible for planning and implementing a transportation program for the shipment of spent nuclear fuel and high-level radioactive waste, in the event the Nuclear Regulatory Commission authorizes receipt and possession of spent nuclear fuel and high-level radioactive waste at Yucca Mountain.

In the Final Environmental Impact Statement for a Geologic Repository for the Disposal of Spent Nuclear Fuel and High-Level Radioactive Waste at Yucca Mountain, Nye County, Nevada (DOE/EIS-0250F) (Final EIS), the Department evaluated various modes of transportation including mostly rail, mostly legal-weight truck and mostly heavy-haul truck. The Department identified the mostly rail alternative as its preferred mode of transportation in the Final EIS.

In the event that DOE selects the mostly rail alternative, a rail line would need to be constructed to connect the repository site at Yucca Mountain to an existing rail line in the State of Nevada. Accordingly, the Final EIS evaluated five rail corridors ¹—Caliente, Carlin, Caliente-Chalk Mountain, Jean, and Valley Modified. The Department, however, did not identify a preferred rail corridor in the Final EIS, but indicated it would do so at least 30 days before making any decisions on the selection of a corridor.

¹ A corridor is a strip of land, approximately 400 meters (0.25 mile) wide, that encompasses one of several possible routes through which DOE could build a branch rail line. An alignment is the specific location of a rail line in a corridor.

The Department is now announcing the Caliente rail corridor as its preferred corridor in which to construct a rail line in Nevada, and Carlin as a secondary preference. If the Department adopts the mostly rail mode in Nevada, DOE will issue a Record of Decision selecting a rail corridor no sooner than 30 days after publication of this preference announcement. If the Department selects a rail corridor, DOE will issue a Notice of Intent in the Federal Register to initiate the preparation of a rail alignment EIS under the National Environmental Policy Act (NEPA) to consider alternative alignments within the selected corridor for construction of a rail line. Under this scenario, the Department would anticipate holding public scoping meetings in early-to-mid February, 2004. The exact date, time and locations of the meetings would be announced in the Notice of Intent.

FOR FURTHER INFORMATION CONTACT:

To obtain a copy of the Final EIS or for further information contact: Ms. Robin Sweeney, Office of National Transportation, Office of Civilian Radioactive Waste Management, U.S. Department of Energy, 1551 Hillshire Drive, M/S 011, Las Vegas, NV 89134, Telephone 1-800-967-3477. The Final EIS is available on the Internet at ocrwm.doe.gov.

For further information regarding the DOE NEPA process contact: Ms. Carol M. Borgstrom, Director, Office of NEPA Policy and Compliance (EH-42), U.S. Department of Energy, 1000 Independence Ave., SW., Washington, DC 20585, Telephone (202) 586-4600, or leave a message at 1-800-472-2756.

SUPPLEMENTARY INFORMATION:

Background

In the Final EIS, DOE analyzed a Proposed Action to construct, operate and monitor, and eventually close a geologic repository at Yucca Mountain. As part of the Proposed Action, DOE analyzed the potential impacts of transporting spent nuclear fuel and high-level radioactive waste from 72 commercial and 5 DOE sites to the Yucca Mountain site.² Transportation could be accomplished using a variety of modes, including legal-weight truck, rail, heavy-haul truck, and possibly barge.

² Additional sites (primarily research reactors) will ship spent nuclear fuel to DOE for disposal at the repository. Shipment from these sites to DOE is covered under a separate Environmental Impact Statement, Programmatic Spent Nuclear Fuel Management and Idaho National Engineering Laboratory Environment Restoration and Waste Management Programs Environmental Impact Statement (DOE/EIS-0203; April 1995), and associated Record of Decision (June 1, 1995; 60 FR 28680)). Two of these research reactors were recently closed and the spent fuel removed. Adding these sites to the 77 sites listed above results in a total of 129 sites with spent nuclear fuel or high-level waste destined for repository disposal.

The Final EIS examined various national transportation scenarios and Nevada transportation implementing alternatives to estimate the range of potential environmental impacts that could occur. Two national transportation scenarios, referred to as the mostly legal-weight truck ³ scenario and the mostly rail ⁴ scenario, and three Nevada implementing alternatives, referred to as the legal-weight truck alternative, the rail alternative, and the heavy-haul truck ⁵ alternative are evaluated. In the Final EIS, the Department identified the mostly rail scenario as its preferred mode of transportation, both nationally and in the State of Nevada.

³ A truck with a gross vehicle weight (truck and cargo) of less than 80,000 pounds having dimensions, axle spacing, and if applicable, axle loads within Federal and state limits.

⁴ Rail is defined to include vehicles, such as locomotives and specialized freight cars, with steel wheels running on steel rails using standard gauge that is compatible with the U.S. freight rail network.

⁵ A heavy-haul truck is an overweight, overdimension vehicle that must have permits from state highway authorities to use public highways. An intermodal transfer station is a facility at the junction of rail and road transportation used to transfer shipping casks containing radioactive materials from rail to truck, and empty casks from truck to rail.

Implementation of the mostly rail scenario would require the construction of a rail line to connect the repository site at Yucca Mountain to an existing rail line in the State of Nevada. Accordingly, the Final EIS evaluated five rail corridors—Caliente, Carlin, Caliente-Chalk Mountain ⁶, Jean and Valley Modified. The Department, however, did not identify a preferred rail corridor in the Final EIS.

⁶ As stated in the Final EIS, DOE considers the Caliente-Chalk Mountain rail corridor to be non-preferred, because of adverse effects on the security and operations of the Nevada Test and Training Range.

Preferred Nevada Rail Corridor

After consideration of public comments, the analyses of the Final EIS and other information, the Department has identified the Caliente corridor as its preferred rail corridor with the Carlin Corridor as the secondary preference. The Department's preference for Caliente takes into consideration many factors, including its more remote location, the diminished likelihood of land use conflicts, concerns raised by Nevadans, and national security issues raised by the U.S. Air Force on the Caliente-Chalk Mountain corridor. Approximately one-third of the Caliente and Carlin corridors overlap. Since the Carlin corridor has similar attributes overall, DOE has identified the Carlin corridor as the secondary preference in the event the Caliente corridor is not selected.

If the Department adopts the mostly rail mode, DOE will issue a Record of Decision selecting a rail corridor no sooner than 30 days after publication of this preference announcement. If the Department selects a rail corridor, DOE will issue a Notice of Intent in the Federal Register to initiate the preparation of a rail alignment EIS under NEPA to consider alternative alignments within the selected corridor for construction of a rail line.

Issued in Washington, DC, December 23, 2003.
Margaret S.Y. Chu,
Director, Office of Civilian Radioactive Waste Management.

[FR Doc. 03-32029 Filed 12-24-03; 8:45 am]

BILLING CODE 6450-01-P